DEPARTMENT OF COMMERCE

International Trade Administration

[A-570-967]

Aluminum Extrusions From the People's Republic of China: Notice of Correction to the Final Determination of Sales at Less Than Fair Value

AGENCY: Import Administration, International Trade Administration, Department of Commerce.

DATES: Effective Date: April 13, 2011.

FOR FURTHER INFORMATION CONTACT: Paul Stolz or Lori Apodaca, AD/CVD Operations, Office 8, Import Administration, International Trade Administration, U.S. Department of Commerce, 14th Street and Constitution Avenue, NW., Washington, DC 20230; telephone: (202) 482-4474 or (202) 482-4551, respectively.

SUPPLEMENTARY INFORMATION: The Final Determination in this investigation was published in the Federal Register on April 4, 2011.¹ For the AD Final Determination, the Department of Commerce (“the Department”) assigned an antidumping duty margin of 33.28 percent to the mandatory respondent and an antidumping duty margin of 32.79 percent to 29 separate-rate companies.

¹ See Aluminum Extrusions from the People's Republic of China: Final Determination of Sales at Less Than Fair Value, 76 FR 18524 (April 4, 2011) (“AD Final Determination”).

Section 772(c)(1)(C) of the Tariff Act of 1930, as amended (“the Act”), provides for an adjustment to the export price and constructed export price to offset any countervailing duties (“CVD”) based on export subsidies. Consistent with this mandate, the Department applies an offset to the antidumping (“AD”) cash deposit rate equal to the amount of the export subsidy applied to that same party in the CVD investigation. In its AD Final Determination, the Department stated that for the individually examined respondent it would reduce the cash deposit requirement by the amount of export subsidies found for the same individually examined AD respondents in the CVD proceeding (i.e., 0.26 percent). Similarly, the Department stated that for the separate-rate respondents it would reduce their cash deposit requirements by the amount of export subsidies included in the All Others rate from the CVD Final Determination (i.e., 42.16 percent).² However, the provisional measures in the concurrent CVD investigation expired on January 6, 2011. See section 703(d) of the Act. Likewise, the provisional measures in the AD investigation will expire on May 11, 2011. See section 733(d) of the Act. Thus, for the remainder of the AD provisional measures period, April 4, 2011, (the date of publication of the AD Final Determination) until May 11, 2011, no CVD duties will be collected. Because no export subsidy-related duties will be collected during this period, the Department has determined that collecting the full AD cash deposit amounts during this period, without adjusting for the amount of the export subsidies found in the concurrent CVD proceeding, is appropriate.

² See Aluminum Extrusions From the People's Republic of China: Final Affirmative Countervailing Duty Determination, 76 FR 18521, (April 4, 2011).

Therefore, the Department will instruct U.S. Customs and Border Protection (“CBP”) to collect the full AD cash deposit amounts specified in the AD Final Determination, without adjusting for export subsidies found in the concurrent CVD proceeding, for the period April 4, 2011, until May 11, 2011. Beginning May 11, 2011, and until such time as final measures, if any, are imposed, no cash deposits for estimated AD duties will be collected. In the event that the ITC publishes an affirmative final injury determination in either the AD or CVD proceeding, then appropriate cash deposit instructions will be forwarded to CBP for the imposition of final measures, effective on the date of publication of the ITC's affirmative final injury determination.

This notice is published in accordance with section 777(i) of the Act.

Dated: April 6, 2011.
Ronald K. Lorentzen,
Deputy Assistant Secretary for Import Administration.

[FR Doc. 2011-8943 Filed 4-12-11; 8:45 am]

BILLING CODE 3510-DS-P